DEPARTMENT OF JUSTICE

Office of Justice Programs

Agency Information Collection Activities: Proposed Collection; Comments Requested

ACTION: 60-day emergency notice of information collection under review: Used body armor wear and care questionnaire.

The Department of Justice, Office of Justice Programs, has submitted the following information collection request to the Office of Management and Budget (OMB) for review and clearance in accordance with emergency review procedures of the Paperwork Reduction Act of 1995. OMB approval has been requested by September 24, 2004. The proposed information collection is published to obtain comments from the public and affected agencies. If granted, the emergency approval is only valid for 180 days. Comments should be directed to OMB, Office of Information and Regulation Affairs, Attention: Department of Justice Desk Officer, Washington, DC 20503. Comments are encouraged and will be accepted for 60 days until November 15, 2004.

During the first 60 days of this same review period, a regular review of this informaiton collection is also being undertaken. All comments and suggestions, or questions regarding additional information, to include obtaining a copy of the proposed information collection instrument with instructions, should be directed to James W. Wong, Visiting Scientist, National Institute of Justice, Office of Justice Programs, Department of Justice, 810 7th Street, NW., Washington, DC 20531, or facsimile (202) 307-9907.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: New collection.

(2) The title of the form/collection: Used Body Armor Wear and Care Questionnaire.

(3) The agency form number, if any, and the applicable component of the department sponsoring the collection: Form Number: N/A. National Institute of Justice, Office of Justice Programs, United States Department of Justice is sponsoring the collection.

(4) Affected public who will be asked or required to respond, as well as a brief abstract: Primary: State, Local, or Tribal Government. Other: Federal Government. Abstract: Pursuant to the Attorney General's Body Armor Safety Initiative, NIJ is collecting samples of used body armor to determine the cause of ballistic resistance degradation in body armor. The information collected in the questionnaire concerns the usage of each unit of body armor submitted for testing and will contribute to an analysis of the causes of ballistic resistance degradation.

(5) An estimate of the total number of respondents and the amount of time estimated for an average respondent to respond/reply: It is estimated that it will take each of the 500 respondents approximately 15 minutes to complete the questionnaire.

(6) An estimate of the total public burden (in hours) associated with the collection: The total estimated annual hour burden to complete the certification form is 125 hours.

If additional information is required contact: Brenda E. Dyer, Department Clearance Officer, United States Department of Justice, Justice Management Division, Policy and Planning Staff, Patrick Henry Building, Suite 1600, 601 D Street NW., Washington, DC 20530.

Dated: September 10, 2004.
Brenda E. Dyer,
Department Clearance Officer, Department of Justice.

[FR Doc. 04-20818 Filed 9-15-04; 8:45 am]

BILLING CODE 4410-18-M